DEPARTMENT OF HOMELAND SECURITY

U.S. Customs and Border Protection

19 CFR Part 177

[CBP Dec. 16-19]

RIN 1515-AE17

New Mailing Address for the National Commodity Specialist Division, Regulations and Rulings, Office of Trade; Technical Correction

AGENCY: U.S. Customs and Border Protection, Department of Homeland Security.

ACTION: Final rule.

SUMMARY: This document amends the U.S. Customs and Border Protection (CBP) regulations to reflect that the mail room servicing the Director, National Commodity Specialist Division, Regulations and Rulings, in the Office of Trade, has relocated within New York, and a new location has been established to receive non-electronic correspondence. E-rulings procedures will remain the same and are not affected by the change in office location.

DATES: Final rule effective October 28, 2016.

FOR FURTHER INFORMATION CONTACT: Steven Mack, Director, National Commodity Specialist Division, Regulations and Rulings, Office of Trade, (646) 733-3001.

SUPPLEMENTARY INFORMATION:

Background

On January 14, 2016, Customs and Border Protection (CBP) published a notice in the Federal Register (81 FR 1960), announcing a temporary change of office location effective January 28, 2016, due to the relocation of the National Commodity Specialist Division (NCSD). In that notice, CBP stated that it would update its regulation once the relocation of the NCSD is complete. The relocation is now completed and a permanent address is established. As such, CBP is revising section 177.2(a) of title 19 of the Code of Federal Regulations (19 CFR 177.2(a)) to reflect the new mailing address. Starting October 28, 2016, all non-electronic correspondence to the NCSD should be sent to the following address: Director, National Commodity Specialist Division, Regulations and Rulings, Office of Trade, 201 Varick Street, Suite 501, New York, New York 10014.E-rulings procedures will remain the same and are not affected by the change in office location.

Inapplicability of Notice and Delayed Effective Date Requirements

Because the technical correction set forth in this document merely updates a mailing address, CBP finds that good cause exists for dispensing with notice and public procedure as unnecessary under 5 U.S.C. 553(b)(A). For this same reason, pursuant to 5 U.S.C. 553(d)(3), CBP finds that good cause exists for dispensing with the requirement for a delayed effective date.

Executive Order 12866

The amendment does not meet the criteria for a “significant regulatory action” as specified in Executive Order 12866.

Regulatory Flexibility Act

Because this document is not subject to the notice and public procedure requirements of 5 U.S.C. 553, it is not subject to the provisions of the Regulatory Flexibility Act (5 U.S.C. 601 et seq.).

Signing Authority

This document is limited to a technical correction of the CBP regulations. Accordingly, it is being signed under the authority of 19 CFR 0.1(b)(1).

List of Subjects in 19 CFR Part 177

Administrative practice and procedure, Customs duties and inspection, Government procurement, Reporting and recordkeeping requirements.

Amendments to the Regulations

For the reasons set forth above, part 177 of the CBP Regulations (19 CFR part 177) is amended as set forth below.

PART 177—ADMINISTRATIVE RULINGS

1. The general authority citation for part 177 continues to read as follows:

Authority: 5 U.S.C. 301; 19 U.S.C. 66, 1202 (General Note 3(i), Harmonized Tariff Schedule of the United States), 1502, 1624, 1625.

§ 177.2 [Amended]

2. In § 177.2, paragraph (a), the third sentence is amended by removing the words “New York, New York 10119, Attn: Classification Ruling Requests, New York, New York 10048, or to any service port office of the Customs and Border Protection” and adding in its place the words “201 Varick Street, Suite 501, New York, New York 10014”.

Dated: October 25, 2016.
R. Gil Kerlikowske,
Commissioner, U.S. Customs and Border Protection.

[FR Doc. 2016-26075 Filed 10-27-16; 8:45 am]

BILLING CODE 9111-14-P